NATIONAL ARCHIVES AND RECORDS ADMINISTRATION

[NARA-2014-043]

Meeting Notice: State, Local, Tribal, and Private Sector Policy Advisory Committee (SLTPS-PAC)

AGENCY: National Archives and Records Administration.

ACTION: Notice of Meeting of Advisory Committee.

SUMMARY: In accordance with the Federal Advisory Committee Act, as amended (5 U.S.C. appendix 2), the National Archives and Records Administration (NARA) announces a meeting of the State, Local, Tribal, and Private Sector Policy Advisory Committee (SLTP-PAC). The meeting will be held to discuss matters relating to the Classified National Security Information Program for State, Local, Tribal, and Private Sector Entities. The meeting will be open to the public.

DATES: The meeting will be held on July 23, 2014, from 10:00 a.m. to 12:00 noon.

ADDRESSES: National Archives and Records Administration, 700 Pennsylvania Avenue NW., Jefferson Room, Washington, DC 20408.

FOR FURTHER INFORMATION CONTACT: Robert J. Skwirot, Senior Program Analyst, ISOO, National Archives Building, 700 Pennsylvania Avenue NW., Washington, DC 20408, by telephone at (202) 357-5398, or by email at robert.skwirot@nara.gov. Contact ISOO at ISOO@nara.gov.

SUPPLEMENTARY INFORMATION: This meeting will be open to the public. However, due to space limitations and access procedures, the name and telephone number of individuals planning to attend must be submitted to the Information Security Oversight Office (ISOO) no later than Friday, July 18, 2014. ISOO will provide additional instructions for gaining access to the location of the meeting.

Dated: July 7, 2014.
Patrice Little Murray,
Acting Committee Management Officer.

[FR Doc. 2014-16288 Filed 7-10-14; 8:45 am]

BILLING CODE 7515-01-P